COMMITTEE FOR PURCHASE FROM PEOPLE WHO ARE BLIND OR SEVERELY DISABLED

Procurement List, Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 12/31/2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 8/24/2012 (77 FR 51522-51523) and 10/5/2012 (77 FR 60969), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 USC 8501-8506) in connection with the products and services proposed for addition to the Procurement List.

End of Certification

Accordingly, the following products and services are added to the Procurement List:

Products

NSN: 4240-00-NIB-0042—Military Safety Belt, ARMY, Adjustable 31″ to 55″, Gold/Black

NSN: 4240-00-NIB-0043—Military Safety Belt, NAVY, Adjustable 31″ to 55″, Silver/Black

NSN: 4240-00-NIB-0044—Military Safety Belt, AIR FORCE, Adjustable 31″ to 55″, Silver/Blue

NSN: 4240-00-NIB-0045—Military Safety Belt, USMC, Adjustable 31″ to 55″, Amber/Scarlet

NSN: 4240-00-NIB-0046—Reflective Safety Belt, Vinyl, Adjustable 31″ to 55″, White

NSN: 4240-00-NIB-0047—Reflective Safety Belt, Vinyl, Adjustable 31″ to 55″, Fluorescent Lime/Yellow

NSN: 4240-00-NIB-0048—Reflective Safety Belt, Vinyl, Adjustable 31″ to 55″, Blue

NSN: 4240-00-NIB-0049—Reflective Safety Belt, Vinyl, Adjustable 31″ to 55″, Fluorescent Red/Orange

NSN: 4240-00-NIB-0050—Reflective Safety Belt, Vinyl, Adjustable 31″ to 55″, Red

NSN: 4240-00-NIB-0051—Reflective Safety Belt, Vinyl, Adjustable 31″ to 55″, Fluorescent Green

NSN: 4240-00-NIB-0052—Reflective Safety Belt, Vinyl, Adjustable 31″ to 55″, Dark Green

NPA: Envision, Inc., Wichita, KS.

Contracting Activity: DEFENSE LOGISTICS AGENCY TROOP SUPPORT, PHILADELPHIA, PA.

Coverage: C-List for 100% of the requirement of the Department of Defense, as aggregated by the Defense Logistics Agency Troop Support, Philadelphia, PA.

Services

Service Type/Location: Administrative Service, U.S. Army MEDCOM Northern Region Contracting Office, 6021 5th Street, Building 1467, Fort Belvoir, VA.

NPA: Able Force, Inc., Tampa, FL.

Contracting Activity: DEPT OF THE ARMY, W40M NATL REGION CONTRACT OFC, FORT BELVOIR, VA.

Service Type/Location: Custodial Service, Corps of Engineers (COE), Whiteman Resident Office, 930 Arnold Avenue, Building, Whiteman AFB, MO.

NPA: Portco, Inc., Portsmouth, VA.

Contracting Activity: DEPT OF THE ARMY, W071 ENDIST KANSAS CITY, KANSAS CITY, MO.

Barry S. Lineback,
Director, Business Operations.

[FR Doc. 2012-28978 Filed 11-29-12; 8:45 am]

BILLING CODE 6353-01-P